FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012297-004.

Title: ECNA/ECSA Vessel Sharing Agreement.

Parties: Maersk Line A/S and Hapag-Lloyd AG.

Filing Party: Wayne Rohde; Cozen O'Connor; 1200 19th Street NW; Washington, DC 20036.

Synopsis: The amendment deletes Hamburg Sudamerikianische Dampschifffahrts-Gesellschaft KG and Alianca Navegacao e Logistica Ltda e CIA as parties to the Agreement and replaces them with Maersk Line A/S. It also deletes Companhia Libra de Navegacao as a party.

Agreement No.: 011463-013.

Title: East Coast North America to West Coast South America and Caribbean Cooperative Working Agreement.

Parties: Maersk Line A/S and Hapag-Lloyd AG.

Filing Party: Wayne Rohde; Cozen O'Connor; 1200 19th Street NW; Washington, DC 20036.

Synopsis: The amendment removes Hamburg Sud as a party and replaces it with Maersk Line. It also removes obsolete language from Article 5.9 and restates the Agreement.

Agreement No.: 012448-001.

Title: ECUS/ECSA Slot Exchange Agreement.

Parties: Maersk Line A/S; Hapag-Lloyd AG; and Mediterranean Shipping Company S.A.

Filing Party: Wayne Rohde; Cozen O'Connor; 1200 19th Street NW; Washington, DC 20036.

Synopsis: The amendment deletes Hamburg Südamerkianische Dampschifffahrts-Gesellschaft KG as a party and replaces it with Maersk Line A/S. It also deletes Aliança Navegaçao e Logistica Ltda. e CIA and Companhia Libra de Navegaçao as parties to the Agreement.

Agreement No.: 012146-002.

Title: HLAG/Maersk USWC-Mediterranean Vessel Sharing Agreement.

Parties: Maersk Line A/S and Hapag-Lloyd AG.

Filing Party: Wayne Rohde; Cozen O'Connor; 1200 19th Street NW; Washington, DC 20036.

Synopsis: The amendment deletes Hamburg Sudamerikanische Dampfschifffahrts-Gesellschaft KG as a party and replaces it with Maersk Line A/S. It also restates the Agreement.

Agreement No.: 201229-001.

Title: Marine Terminal Services Agreement Port of Houston Authority and Maersk Line A/S.

Parties: Maersk Line A/S and Port of Houston Authority.

Filing Party: Chasless Yancy; Port of Houston Authority; 111 East Loop North; Houston, TX 77029.

Synopsis: The amendment clarifies the name of the Carrier party to the agreement and adds newly acquired common carrier steamship lines, Hamburg Südamerikanische Dampfschifffahrts-Gesellschaft KG and Aliança Navegação e Logística Ltdsa., to the Agreement. All other terms of the Agreement remain unchanged.

Dated: April 23, 2018.
Rachel E. Dickon,
Secretary.

[FR Doc. 2018-08799 Filed 4-25-18; 8:45 am]

BILLING CODE 6731-AA-P